DEPARTMENT OF HOMELAND SECURITY

Coast Guard

33 CFR Part 165

[USCG-2008-0375]

Portland Rose Festival Fireworks Display

AGENCY: Coast Guard, DHS.

ACTION: Notice of enforcement of regulation.

SUMMARY: The Coast Guard will enforce the “Portland Rose Festival Fireworks Display safety zone on the Willamette River”; from 8:30 p.m. through 11:30 p.m. on May 30, 2008. This action is necessary to provide a safe display for the public and to keep them clear of the fall out area of the fireworks. During the enforcement period, no person or vessel may enter the safety zone without permission of the Captain of the Port.

DATES: The regulations in 33 CFR 165.1315(a)(2) will be enforced from 8:30 p.m. through 11:30 p.m. on May 30, 2008.

FOR FURTHER INFORMATION CONTACT: BM2 Joshua Lehner, Sector Portland Waterways Management at (503) 247-4015.

SUPPLEMENTARY INFORMATION: The Coast Guard will enforce the safety zone for the Portland Rose Festival fireworks display in 33 CFR 165.1315(a)(2) on May 30, 2008 from 8:30 p.m. to 11:30 p.m.

Under the provisions of 33 CFR 165.1315, a vessel may not enter the regulated area, unless it receives permission from the COTP. The Coast Guard may be assisted by other Federal, state, or local law enforcement agencies in enforcing this regulation.

This notice is issued under authority of 33 CFR 165.1315(a)(2) and 5 U.S.C. 552(a). In addition to this notice in the Federal Register, the Coast Guard will provide the maritime community with advance notification of this enforcement period via the Local Notice to Mariners and a marine information broadcast. If the COTP determines that the regulated area need not be enforced for the full duration stated in this notice, he may use a Broadcast Notice to Mariners to grant general permission to enter the regulated area.

Dated: May 7, 2008.
F.G. Myer,
Captain, U.S. Coast Guard, Captain of the Port Portland.

[FR Doc. E8-11549 Filed 5-22-08; 8:45 am]

BILLING CODE 4910-15-P